PEACE CORPS

Information Collection Request; Submission for OMB Review

AGENCY: Peace Corps.

ACTION: 60-day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995.

DATES: Submit comments on or before May 23, 2017.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: The Peace Corps Office of Communications activities and publications support section 2 of the Peace Corps Act, which states that one of the agency's missions is to “promote a better understanding of other peoples on the part of all Americans.” The Peace Corps Media Library project gathers and makes accessible, via the internet, stories and photos of Peace Corps Volunteers who have served in 140 countries over the past 54 years, helping to convey to the American public the Peace Corps' legacy of service to host country communities throughout the world.

OMB Control Number: 0420-0552.

Old Title: Peace Corps Digital Library.

New Title: Peace Corps Media Library.

Type of Review: Regular.

Affected Public: Individuals.

Respondents' Obligation to Reply: Voluntary.

Burden to the Public:

a. Number of Respondents (first year): 500.

b. Frequency of response: 1 response.

c. Completion time: 5 minutes.

d. Annual burden hours: 42 hours.

General Description of Collection: The Peace Corps Media Library collects stories and photographs from Returned Peace Corps Volunteers along with basic contact information (name, phone number, email address) and information about their Peace Corps service, such as dates of service, geographic location, and sector of service. Respondents include Returned Peace Corps Volunteers and current or former Peace Corps staff interested in voluntarily submitting photos and/or videos to the Peace Corps Media Library. This information is used to add assets to the media library on the Peace Corps Web site; provide photos for use in exhibits, news articles and events about Peace Corps; assist in documenting the history of the Peace Corps as experienced by its Volunteers through the years.

Request for Comment: Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

This notice issued in Washington, DC, on March 21, 2017.
Denora Miller,
FOIA/Privacy Act Officer, Management.

[FR Doc. 2017-05891 Filed 3-23-17; 8:45 am]

BILLING CODE 6051-01-P